DEPARTMENT OF AGRICULTURE

Forest Service

Information Collection; Foreign Travel Proposal

AGENCY: Forest Service, USDA.

ACTION: Notice; request for comment.

SUMMARY: In accordance with the Paperwork Reduction Act of 1995, the Forest Service is seeking comments from all interested individuals and organizations on the new information collection, Foreign Travel Proposal.

DATES: Comments must be received in writing on or before February 29, 2008 to be assured of consideration. Comments received after that date will be considered to the extent practicable.

ADDRESSES: Comments concerning this notice should be addressed to Forest Service, U.S. Department of Agriculture, International Programs, Travel Section, 1099 14th Street, NW., Washington, DC 20050.

Comments also may be submitted via facsimile to 540-659-4670 or by e-mail to: sfarber@fs.fed.us.

The public may inspect comments received at 1099 14th St., NW., Room 5500W, Washington, DC, during normal business hours. Visitors are encouraged to call ahead to 202-273-4695 to facilitate entry to the building.

FOR FURTHER INFORMATION CONTACT: Sandra Farber, Forest Service, U.S. Department of Agriculture, International Programs, Travel Section, 540-659-2973. Individuals who use TDD may call the Federal Relay Service (FRS) at 1-800-877-8339, 24 hours a day, every day of the year, including holidays.

SUPPLEMENTARY INFORMATION: Title: Foreign Travel Proposal.

OMB Number: 0596-New.

Type of Request: New.

Abstract: The Forest Service is seeking approval to collect information from individuals traveling to foreign countries on behalf of the Agency. The collection of this information is necessary to facilitate timely issuance of foreign travel authorizations, including the release, issuance, and/or renewal of official United States government passports; issuance of necessary visas; and country clearance. Forest Service, U.S. Department of Agriculture, International Programs Travel Section uses FS-6500-1, Foreign Travel Proposal, to collect the information.

Information collected includes the traveler's destination, purpose of trip, and dates of travel. Also collected are name, address, contact telephone numbers, birth date and place, social security numbers, passport information, security clearance, as well as contacts at each destination and hotel information. Analysis of the information for accuracy is routine.

Use of the information provided by the traveler or their designee depends upon circumstances. Name, place of birth, and passport goes to each destination's United States embassy via a country clearance cable and is necessary to obtain the embassy's approval of travel. Security clearance is necessary to allow the traveler entry to specific areas within United States embassies abroad. The embassies use the destination information for contact purposes, and it is for the safety of the traveler.

Without collection of this information, the Forest Service cannot provide support to international programs or other countries who have requested assistance. Collection of this information occurs each time a non-federal traveler requests approval for foreign travel on behalf of the Forest Service. The International Programs Travel Section does maintain files beyond the end of each trip. Shredding of records containing the collected information occurs upon the completion of the associated trip.

Estimate of Annual Burden: 15 minutes.

Type of Respondents: Personal services agreement employees, personal services contractors, contractors, and volunteers.

Estimated Annual Number of Respondents: 25.

Estimated Annual Number of Responses per Respondent: 1.

Estimated Total Annual Burden on Respondents: 6.25 hours.

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the request for Office of Management and Budget approval.

Dated: December 17, 2007.
Abigail R. Kimbell,
Chief, Forest Service.

[FR Doc. E7-25408 Filed 12-28-07; 8:45 am]

BILLING CODE 3410-11-P